DEPARTMENT OF THE INTERIOR

National Park Service

[NPS-WASO-NAGPRA-NPS0037775; PPWOCRADN0-PCU00RP14.R50000]

Notice of Inventory Completion: University of Nebraska State Museum, University of Nebraska-Lincoln, Lincoln, NE

AGENCY: National Park Service, Interior.

ACTION: Notice.

SUMMARY: In accordance with the Native American Graves Protection and Repatriation Act (NAGPRA), the University of Nebraska State Museum has completed an inventory associated funerary objects and has determined that there is a cultural affiliation between the associated funerary objects and Indian Tribes or Native Hawaiian organizations in this notice. The associated funerary objects were removed from Merrick County, NE.

DATES: Repatriation of the associated funerary objects in this notice may occur on or after May 20, 2024.

ADDRESSES: Taylor Ronquillo NAGPRA Project Manager, University of Nebraska State Museum, 645 N 14th Street, Lincoln, NE 68588, telephone (402) 472-6592, email Tronquillo2@unl.edu and Susan Weller NAGPRA Coordinator, University of Nebraska State Museum, 645 N 14th Street, Lincoln, NE 68588, telephone (402) 472-0577, email sweller2@unl.edu.

SUPPLEMENTARY INFORMATION: This notice is published as part of the National Park Service's administrative responsibilities under NAGPRA. The determinations in this notice are the sole responsibility of the University of Nebraska State Museum, and additional information on the determinations in this notice, including the results of consultation, can be found in the inventory or related records. The National Park Service is not responsible for the determinations in this notice.

Abstract of Information Available

Based on the information available, the 12 associated funerary objects are two boxes of burial soil (total weight 10 kg), one metal blade, one worked stone, two ceramic sherds, five faunal bones, and one faunal tooth. This material was excavated by Karl Reinhard in 1992 with the University of Nebraska State Museum working under contract to the Bureau of Reclamation during the construction of the Fullerton Canal project. The Palmer Site was a historic Skidi Pawnee earth lodge village. The soil samples were from burial [mound] 4. The material was excavated from the Palmer Site, Merrick County, NE.

Cultural Affiliation

Based on the information available and the results of consultation, cultural affiliation is reasonably identified by the geographical location or acquisition history of the associated funerary objects described in this notice.

Determinations

The University of Nebraska State Museum has determined that:

• The 12 objects described in this notice are reasonably believed to have been placed intentionally with or near individual human remains at the time of death or later as part of the death rite or ceremony.

• There is a reasonable connection between the associated funerary objects described in this notice and the Pawnee Nation of Oklahoma.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after May 20, 2024. If competing requests for repatriation are received, the University of Nebraska State Museum must determine the most appropriate requestor prior to repatriation. Requests for joint repatriation of the associated funerary objects are considered a single request and not competing requests. The University of Nebraska State Museum is responsible for sending a copy of this notice to the Indian Tribes and Native Hawaiian organizations identified in this notice.

Authority: Native American Graves Protection and Repatriation Act, 25 U.S.C. 3003, and the implementing regulations, 43 CFR 10.10.

Dated: April 9, 2024.
Melanie O'Brien,
Manager, National NAGPRA Program.

[FR Doc. 2024-08232 Filed 4-17-24; 8:45 am]

BILLING CODE 4312-52-P